NATIONAL ARCHIVES AND RECORDS ADMINISTRATION

[NARA-22-0012; NARA-2022-053]

Records Schedules; Administrative Correction Notice

AGENCY: National Archives and Records Administration (NARA).

ACTION: Notice; administrative correction.

FOR FURTHER INFORMATION CONTACT: Kimberly Richardson, Regulatory and External Policy Program Manager, by email at regulation_comments@nara.gov. For information about records schedules, contact Records Management Operations by email at request.schedule@nara.gov or by phone at 301-837-1799.

SUMMARY: We published records schedules (NARA-22-0012; NARA 2022-053) in the Federal Register on June 9, 2022, and requested comments by the due date, June 8, 2022, in error. We are correcting the due date for comments.

SUPPLEMENTARY INFORMATION:

Correction

In the Federal Register of June 9, 2022, in FR Doc. Vol 87, No.111, on page 35249, in the first column, correct the DATES caption to read:

DATES:

We must receive responses on the schedules listed in this notice by July 25, 2022.

Laurence Brewer,
Chief Records Officer for the U.S. Government.

[FR Doc. 2022-12808 Filed 6-13-22; 8:45 am]

BILLING CODE 7515-01-P